ENVIRONMENTAL PROTECTION AGENCY

[FRL-9616-8]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 2373.04; Mandatory Reporting of Greenhouse Gases: Additional Sources of Fluorinated Greenhouse Gases, subparts I, L, DD, SS and QQ (Technical Correction); 40 CFR part 98, subparts I, L, DD, QQ and SS; was approved on 12/09/2011; OMB Number 2060-0650; expires on 12/31/2013; Approved without change.

EPA ICR Number 2396.02; Mandatory Reporting of Greenhouse Gases: Magnesium Production, Underground Coal Mines, Industrial Wastewater Treatment, and Industrial Waste Landfills (Technical Correction); 40 CFR part 98, subparts T, FF, II and TT; was approved on 12/09/2011; OMB Number 2060-0647; expires on 12/31/2013; Approved without change.

EPA ICR Number 2300.09; Regulation to Establish Mandatory Reporting of Greenhouse Gases (Technical Correction); 40 CFR parts 86, 89, 90, 94, 98, 600, 1033, 1039, 1042, 1045, 1048, 1051, 1054 and 1065; was approved on 12/09/2011; OMB Number 2060-0629; expires on 11/30/2012; Approved without change.

EPA ICR Number 1723.06; Reporting and Recordkeeping Requirements for Importation of Nonroad Engines and Recreational Vehicles (Renewal); 40 CFR part 85; 40 CFR part 89 subparts G and J; 40 CFR part 90 subparts G and J; 40 CFR part 91 subparts H and K; 40 CFR part 92 subparts I and J; 40 CFR part 94 subparts I and J; and 40 CFR part 1068 subparts C and D; was approved on 12/16/2011; OMB Number 2060-0320; expires on 12/31/2014; Approved without change.

EPA ICR Number 0976.15; 2011 Hazardous Waste Report, Notification of Regulated Waste Activity, and Part A Hazardous Waste Permit Application and Modification; 40 CFR 262.12, 262.40, 262.41, 262.75, 263.11, 264.1, 264.11, 265.1, 265.22, 265.75, 266.21, 266.23, 266.70, 266.80, 266.100, 266.108, 270.1; 270.11, 270.13, 270.30, 270.70, 270.72, 273.32, 273.60, 279.42, 279.62 and 279.73; was approved on 12/20/2011; OMB Number 2050-0024; expires on 12/31/2014; Approved with change.

EPA ICR Number 1591.25; Fuel and Fuel Additives (Renewal); 40 CFR 80.65, 80.67, 80.68, 80.69, 80.74, 80.75, 80.76, 80.79, 80.91, 80.94, 80.101, 80.103, 80.104 and 80.105; was approved on 12/27/2011; OMB Number 2060-0277; expires on 12/31/2014; Approved without change.

EPA ICR Number 1657.07; NESHAP for Pulp and Paper Production; 40 CFR part 63 subparts A and S; was approved on 12/30/2011; OMB Number 2060-0387; expires on 12/31/2014; Approved without change.

Comment Filed

EPA ICR Number 1989.08; NPDES CAFO 308 Reporting Rule (Proposed Rule); in 40 CFR 122.21, 122.22, 122.23, 122.28, 122.41, 122.42 and 40 CFR part 412; OMB filed comment on 12/08/2011.

Dated: January 3, 2012.
John Moses,
Director, Collections Strategies Division.

[FR Doc. 2012-138 Filed 1-6-12; 8:45 am]

BILLING CODE 6560-50-P